DEPARTMENT OF HEALTH AND HUMAN SERVICES

Public Health Service

42 CFR Part 86

Grants for Education Programs in Occupational Safety and Health

CFR Correction

In Title 42 of the Code of Federal Regulations, Parts 1 to 399, revised as of October 1, 2014, on page 668, in § 86.33, in paragraph (b), remove the term “068”.

[FR Doc. 2015-11141 Filed 5-7-15; 8:45 am]

BILLING CODE 1505-01-D